DEPARTMENT OF HOMELAND SECURITY

[Docket No. CISA-2021-0009]

Revision of a Currently Approved Information Collection for the Chemical Facility Anti-Terrorism Standards (CFATS) Personnel Surety Program

AGENCY: Cybersecurity and Infrastructure Security Agency, DHS.

ACTION: 30-Day notice and request for comments; revision of information collection request: 1670-0029.

SUMMARY: The Infrastructure Security Division (ISD) within the Cybersecurity and Infrastructure Security Agency (CISA) will submit the following Information Collection Request (ICR) to the Office of Management and Budget (OMB) for review and clearance in accordance with the Paperwork Reduction Act of 1995. CISA previously published this ICR, in the Federal Register on June 23, 2021, for a 60-day comment period. In this notice, CISA solicits public comment concerning this ICR for an additional 30-days.

DATES: Comments are due March 14, 2022.

ADDRESSES: Written comments and recommendations for the proposed information collection should be sent within 30 days of publication of this notice to www.reginfo.gov/public/do/PRAMain. Find this particular information collection by selecting “Currently under 30-day Review—Open for Public Comments” or by using the search function.

Comments submitted in response to this notice may be made publicly available to through relevant public websites. For this reason, please do not include confidential information in your comments, such as sensitive personal information or proprietary information. Please note that responses to this public comment request containing any routine notice about the confidentiality of the communication will be treated as public comments that may be made available to the public notwithstanding the inclusion of the routine notice. Comments that include protected information such as trade secrets, confidential commercial or financial information, Chemical-terrorism Vulnerability Information (CVI),¹ Sensitive Security Information (SSI),² or Protected Critical Infrastructure Information (PCII) ³ should not be submitted to the public docket. Comments containing protected information should be appropriately marked and packaged in accordance with all applicable requirements and submission must be coordinated with the point of contact for this notice provided in FOR FURTHER INFORMATION CONTACT section. CISA will forward all comments containing protected information that are received before the submission deadline to the OMB Desk Officer.

¹ For more information about CVI see 6 CFR 27.400 and the CVI Procedural Manual at www.dhs.gov/publication/safeguarding-cvi-manual.

² For more information about SSI see 49 CFR part 1520 and the SSI Program web page at www.tsa.gov/for-industry/sensitive-security-information.

³ For more information about PCII see 6 CFR part 29 and the PCII Program web page at www.dhs.gov/pcii-program.

FOR FURTHER INFORMATION CONTACT: Ryan Donaghy, 703-603-5000, CISARegulations@cisa.dhs.gov.

SUPPLEMENTARY INFORMATION: The CFATS Program identifies chemical facilities of interest and regulates the security of high-risk chemical facilities through a risk-based approach. The CFATS Program is authorized under the Protecting and Securing Chemical Facilities from Terrorist Attacks Act of 2014 ⁴ or “CFATS Act of 2014”. CISA collects necessary information through 1670-0029 to implement the CFATS Personnel Surety Program.

⁴ The Protecting and Securing Chemical Facilities from Terrorist Attacks Act of 2014 (also known as the CFATS Act of 2014, Pub. L. 113-254) codified the CFATS program into the Homeland Security Act of 2002. See 6 U.S.C. 621 et seq., as amended by Public Law 116-136, Sec. 16007 (2020).

CISA received one nongermane comment in response to the 60-day notice.⁵

⁵ The nongermane comment may be viewed at https://www.regulations.gov/comment/CISA-2021-0009-0002.

CISA continues to rely on the analysis and resulting burden estimates provided in the 60-day notice.⁶

⁶ 86 FR 32960 (June 23, 2021). The 60-day notice titled, “Revision of a Currently Approved Information Collection for the Chemical Facility Anti-Terrorism Standards (CFATS) Personnel Surety Program” may be viewed at https://www.federalregister.gov/d/2021-13110.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology (e.g., permitting electronic submissions of responses).

Analysis

Agency: Department of Homeland Security, Cybersecurity and Infrastructure Security Agency.

Title: Chemical Facility Anti-Terrorism Standards (CFATS) Personnel Surety Program.

OMB Number: 1670-0029.

Instrument: CFATS Personnel Surety Program.

Frequency: “Other”.

Affected Public: Business or other for-profit.

Number of Respondents: 149,271 respondents.

Estimated Time per Respondent: 0.1667 hours (10 minutes).

Total Burden Hours: 24,879 annual burden hours.

Total Burden Cost (capital/startup): $0.

Total Recordkeeping Burden: $0.

Total Burden Cost: $2,201,152.

Dated: February 7, 2022.
Robert J. Costello,
Chief Information Officer, Department of Homeland Security, Cybersecurity and Infrastructure Security Agency.

[FR Doc. 2022-02967 Filed 2-10-22; 8:45 am]

BILLING CODE 9110-9P-P